DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before December 3, 2007.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave. SW., Room 4102, Albuquerque, New Mexico. Please refer to the respective permit number for each application when submitting comments.

FOR FURTHER INFORMATION CONTACT: Chief, Endangered Species Division, P.O. Box 1306, Room 4102, Albuquerque, New Mexico 87103, (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-166070

Applicant: Hugo Stolte IV, San Antonio, Texas.

Applicant requests a new permit for research and recovery purposes to conduct presence/absence surveys for golden-cheeked warbler (Dendroica chryoparia) within Texas.

Permit TE-165220

Applicant: Donald Hockaday, South Padre Island, Texas.

Applicant requests a new permit for research and recovery purposes to conduct presence/absence surveys for the following species: leatherback sea turtle (Dermochelys coriacea), green sea turtle (Chelonia mydas), hawksbill sea turtle (Eretmochelys imbricata), Kemp's Ridley sea turtle (Lepidochelys kempii), and loggerhead sea turtle (Caretta caretta) within Texas.

Permit TE-069848

Applicant: Ross Rasmussen, Plano, Texas.

Applicant requests an amendment to an existing permit for research and recovery purposes to conduct presence/absence surveys for black capped-vireo (Vireo atricapilla) within Oklahoma.

Permit No. TE-163400

Applicant: Joseph Bidwell, Oklahoma State University, Stillwater, Oklahoma.

Applicant requests a new permit for research and recovery purposes to conduct presence/absence surveys for Neosho madtom (Notutus placidus) within Oklahoma.

Permit No. TE-046517

Applicant: USGS New Mexico Cooperative Fish and Wildlife Research Unit, Las Cruces, New Mexico.

Applicant requests an amendment to an existing permit for research and recovery purposes to conduct presence/absence surveys for Bonytail chub (Gila elegans) within New Mexico.

Permit No. TE-166250

Applicant: Miami University, Oxford, Ohio.

Applicant requests a new permit for research and recovery purposes to conduct presence/absence surveys and collection for Noel's Amphipod (Gammarus desperatus), Koster's Springsnail (Juturnia kosteri), and Roswell Springsnail (Pyrgulopsis roswellensis) within New Mexico.

Authority: 16 U.S.C. 1531 et seq.

Dated: October 12, 2007.
Christopher T. Jones,
Acting Regional Director, Region 2, Albuquerque, New Mexico.

[FR Doc. E7-21584 Filed 11-1-07; 8:45 am]

BILLING CODE 4310-55-P